Title 3—

The President

Proclamation 10330 of December 29, 2021

Death of Harry Reid

By the President of the United States of America

A Proclamation

From humble roots in Searchlight, Nevada, Harry Reid rose to become one of the great Senate Majority Leaders in American history. He was a man of action, and a man of his word—guided by faith, loyalty, and unshakeable resolve.

Throughout his long career of public service, Harry Reid was instrumental in passing landmark legislation that made a positive difference in the lives of countless Americans and made our Nation stronger and safer. His devoted service to our Nation was not about power for power's sake. It was about the power to do right by the American people.

As a mark of respect for his memory, I hereby order, by the authority vested in me by the Constitution and the laws of the United States of America, that on the day of his interment, the flag of the United States shall be flown at half-staff at the White House and upon all public buildings and grounds, at all military posts and naval stations, and on all naval vessels of the Federal Government in the District of Columbia and throughout the United States and its Territories and possessions until sunset on such day. I also direct that the flag shall be flown at half-staff for the same period at all United States embassies, legations, consular offices, and other facilities abroad, including all military facilities and naval vessels and stations.

IN WITNESS WHEREOF, I have hereunto set my hand this twenty-ninth day of December, in the year of our Lord two thousand twenty-one, and of the Independence of the United States of America the two hundred and forty-sixth.

[FR Doc. 2021-28554

Filed 1-3-22; 8:45 am]

Billing code 3395-F2-P